DEPARTMENT OF THE INTERIOR

National Park Service

[NPS-WASO-NAGPRA-NPS0040323; PPWOCRADN0-PCU00RP14.R50000]

Notice of Inventory Completion: The University of Kansas, Lawrence, KS

AGENCY: National Park Service, Interior.

ACTION: Notice.

SUMMARY: In accordance with the Native American Graves Protection and Repatriation Act (NAGPRA), the University of Kansas has completed an inventory of human remains and associated funerary objects and has determined that there is a cultural affiliation between the human remains and associated funerary objects and Indian Tribes or Native Hawaiian organizations in this notice.

DATES: Repatriation of the human remains and associated funerary objects in this notice may occur on or after July 11, 2025.

ADDRESSES: Send written requests for repatriation of the human remains and associated funerary objects in this notice to Dr. Thomas Torma, Repatriation Program Manager, The University of Kansas, Office of Audit, Risk, and Compliance, 1450 Jayhawk Boulevard, 351 Strong Hall, Lawrence, KS 66045, email t-torma@ku.edu.

SUPPLEMENTARY INFORMATION: This notice is published as part of the National Park Service's administrative responsibilities under NAGPRA. The determinations in this notice are the sole responsibility of the University of Kansas, and additional information on the determinations in this notice, including the results of consultation, can be found in its inventory or related records. The National Park Service is not responsible for the determinations in this notice.

Abstract of Information Available

Human remains representing, at least, four individuals have been identified. The six associated funerary objects are one lot of lithics, one lot of ceramics, one lot of shell, one lot of bone and antler, one lot of ochre, and one lot of burnt earth. These ancestors and associated funerary objects were collected by Floyd Schultz, an amateur archeologist, whose primary profession was running a movie theatre in Clay Center, Kansas. Between the years of 1918 and 1948, Schultz excavated numerous sites in the Republican River Valley, especially, but not exclusively, within Clay and Geary Counties. He donated his archeological collection to the University of Kansas in 1948.

The four individuals in this notice were from 14CY27 and 14CY40, were excavated in July of 1925 by Floyd Schultz, and donated to the University in 1948. The two trinomials appear to have consisted of two burials (located in one mound), a second large mound, and a small hearth located on a bluff overlooking the Republican River.

Burials A and B, also called Mound A and B respectively, (designated as site 14CY40) contained various lithic and ceramic artifacts and human remains (Mound A) and a single projectile point and cranium fragment (Mound B). The adjacent Mound C (designated as 14CY27) is better documented. Artifacts and human remains were located scattered throughout the mounds.

Cultural Affiliation

Based on the information available and the results of consultation, cultural affiliation is reasonably identified by the geographical location or acquisition history of the human remains and associated funerary objects described in this notice.

Determinations

The University of Kansas has determined that:

• The human remains described in this notice represent the physical remains of at least four individuals of Native American ancestry.

• The six objects described in this notice are reasonably believed to have been placed intentionally with or near individual human remains at the time of death or later as part of the death rite or ceremony.

• There is a connection between the human remains and associated funerary objects described in this notice and the Kaw Nation, Oklahoma; Northern Arapaho Tribe of the Wind River Reservation, Wyoming; and the Pawnee Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 11, 2025. If competing requests for repatriation are received, the University of Kansas must determine the most appropriate requestor prior to repatriation. Requests for joint repatriation of the human remains and associated funerary objects are considered a single request and not competing requests. The University of Kansas is responsible for sending a copy of this notice to the Indian Tribes and Native Hawaiian organizations identified in this notice.

Authority: Native American Graves Protection and Repatriation Act, 25 U.S.C. 3003, and the implementing regulations, 43 CFR 10.10.

Dated: May 28, 2025.
Melanie O'Brien,
Manager, National NAGPRA Program.

[FR Doc. 2025-10593 Filed 6-10-25; 8:45 am]

BILLING CODE 4312-52-P